DEPARTMENT OF DEFENSE

Defense Acquisition Regulations System

[Docket No. DARS 2012-0044-0001]

Information Collection Requirement; Defense Federal Acquisition Regulation Supplement; Production Surveillance and Reporting (OMB Control Number 0704-0250)

AGENCY: Defense Acquisition Regulations System, Department of Defense (DoD).

ACTION: Notice; request for comments regarding a proposed extension of an approved information collection requirement.

SUMMARY: In compliance with Section 3506(c)(2)(A) of the Paperwork Reduction Act of 1995 (44 U.S.C. Chapter 35), DoD announces the proposed extension of a public information collection requirement and seeks public comment on the provisions thereof.

DoD invites comments on: (a) Whether the proposed collection of information is necessary for the proper performance of the functions of DoD, including whether the information will have practical utility; (b) the accuracy of the estimate of the burden of the proposed information collection; (c) ways to enhance the quality, utility, and clarity of the information to be collected; and (d) ways to minimize the burden of the information collection on respondents, including the use of automated collection techniques or other forms of information technology. The Office of Management and Budget (OMB) has approved this information collection for use through March 31, 2013. DoD proposes that OMB extend its approval for use for an additional three years.

DATES: DoD will consider all comments received by February 11, 2013.

ADDRESSES: You may submit comments, identified by OMB Control Number 0704-0250, using any of the following methods:

Federal eRulemaking Portal: http://www.regulations.gov. Follow the instructions for submitting comments.

Email: dfars@osd.mil. Include OMB Control Number 0704-0250 in the subject line of the message.

Fax: (571) 372-6096.

Mail: Defense Acquisition Regulations System, Attn: Ms. Meredith Murphy, OUSD (AT&L) DPAP (DARS), Room 3B855, 3060 Defense Pentagon, Washington, DC 20301-3060.

Comments received generally will be posted without change to http://www.regulations.gov, including any personal information provided.

FOR FURTHER INFORMATION CONTACT: Ms. Meredith Murphy, at 571-372-6098. The information collection requirements addressed in this notice are available via the Internet at: http://www.acq.osd.mil/dpap/dars/dfars/index.htm. Paper copies are available from Ms. Meredith Murphy, OUSD (AT&L) DPAP (DARS), IMD 3C132, 3062 Defense Pentagon, Washington, DC 20301-2062.

SUPPLEMENTARY INFORMATION: Title, Associated Form, and OMB Number: Defense Federal Acquisition Regulation Supplement (DFARS) part 242, Contract Administration and Audit Services, and related clauses in DFARS part 252; DD Form 1659, Application for U.S. Government Shipping Documentation/Instructions; DFARS 247.207 and the related clause at 252.247-7028; OMB Control Number 0704-0250.

Needs and Uses: The Government requires this information in order to perform its contract administration functions. DoD uses the information as follows:

a. The information required by DFARS subpart 242.11 is used by contract administration offices to monitor contract progress, identify factors that may delay contract performance, and to ascertain potential contract delinquencies.

b. The information required by DFARS 252.242-7004 is used by contracting officers use to determine if contractor material management and accounting systems conform to established DoD standards.

c. The information required by DFARS 252.247-7028, and submitted on DD Form 1659, is used by contract administration offices and transportation officers to provide bills of lading to contractors. This requirement was previously addressed at DFARS 242.1404-2-70, and the related clause at DFARS 252.242-7003. Since the last renewal of this public information collection requirement, DFARS 242.14 has been realigned under DFARS part 247; therefore, when the associated OMB Clearance (No. 0704-0245) for DFARS part 247 is renewed in 2014, the information required by DFARS 252.247-7028 will be included in that renewal request and will not be included in any future renewal requests for DFARS part 242, Contract Administration and Audit Services.

Affected Public: Businesses or other for-profit and not-for-profit institutions.

Annual Burden Hours: 202,103.

Number of Respondents: 20,865.

Responses per Respondent: 7.285.

Annual Responses: 152,014.

Average Burden per Response: 1.2 hours.

Frequency: On occasion.

Summary of Information Collection

This information collection includes requirements relating to DFARS part 242, Contract Administration and Audit Services, DFARS 247.207, and the related clauses at DFARS part 252.

a. DFARS subpart 242.11 requires DoD contract administration personnel to perform production surveillance to monitor contractor progress and identify any factors that may delay performance. The Government relies on the production progress reports provided by the contractor in the performance of this function.

b. DFARS 252.242-7004 requires contractors to establish, maintain, and disclose material management and accounting systems.

c. DFARS 252.247-7028 requires contractors to request bills of lading by submitting DD Form 1659 to the transportation officer or the contract administration office.

Manuel Quinones,
Editor, Defense Acquisition Regulations System.

[FR Doc. 2012-30120 Filed 12-12-12; 8:45 am]

BILLING CODE 5001-06-P